DEPARTMENT OF DEFENSE

Department of the Army

Notice of Availability for Exclusive, Non-Exclusive, or Partially-Exclusive Licensing of an Invention Concerning Antibodies With Simultaneous Subsite Specificities to Protein and Lipid Epitopes

AGENCY: Department of the Army, DoD.

ACTION: Notice.

SUMMARY: Announcement is made of the availability for licensing of the invention set forth in U.S. Patent Application Serial No. 11/525,574, entitled “Antibodies with Simultaneous Subsite Specificities to Protein and Lipid Epitopes,” filed on September 22, 2006. The United States Government as represented by the Secretary of the Army has rights to this invention. Foreign rights may be available.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to a method of making antibodies that are dual specific to both (1) amino acid sequences and (2) solid phase lipid structures. The invention has relevance to such important subject matter as making broadly neutralizing monoclonal antibodies to HIV-1.

Brenda S. Bowen,
Army Federal Register Liaison Officer.

[FR Doc. 2013-02097 Filed 1-30-13; 8:45 am]

BILLING CODE 3710-08-P